DEPARTMENT OF LABOR

[OMB Control No. 1205-0224]

Comment Request for Proposed Information Collection for Title 29 CFR Part 30, Equal Employment Opportunity in Apprenticeship and Training, Extension Without Changes

AGENCY: Employment and Training Administration, Labor.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data concerning Title 29 CFR Part 30, Equal Employment Opportunity in Apprenticeship Training, Form ETA-9039, that expires on December 31, 2009. A copy of the proposed information collection request (ICR) can be obtained by contacting the office listed below in the addressee section of this notice.

DATES: Written comments must be submitted to the office listed in the addressee's section below on or before November 3, 2009.

ADDRESSES: Submit written comments to John V. Ladd, Administrator, Office of Apprenticeship, Room N-5311, U.S. Department of Labor, Employment and Training Administration, 200 Constitution Avenue, NW., Washington, DC 20210. Telephone number: 202-693-2796 (this is not a toll-free number). Fax: 202-693-2808. E-mail: ladd.john@dol.gov.

SUPPLEMENTARY INFORMATION:

I. Background

The National Apprenticeship Act of 1937, Section 50 (29 U.S.C. 50), authorizes and directs the Secretary of Labor “to formulate and promote the furtherance of labor standards necessary to safeguard the welfare of apprentices, to extend the application of such standards by encouraging the inclusion thereof in contracts of apprenticeship, to bring together employers and labor for the formulation of programs of apprenticeship, to cooperate with State agencies engaged in the formulation and promotion of standards of apprenticeship, and to cooperate with the Secretary of Education in accordance with Section 17 of Title 20.” Section 50a of the Act authorizes the Secretary of Labor to “publish information relating to existing and proposed labor standards of apprenticeship,” and to “appoint national advisory committees * * *” (29 U.S.C. 50a).

Title 29 CFR Part 30 sets forth policies and procedures to promote equality of opportunity in apprenticeship programs registered with the U.S. Department of Labor and recognized State Apprenticeship Agencies. These policies and procedures apply to recruitment and selection of apprentices, and to all conditions of employment and training during apprenticeship. The procedures provide for review of apprenticeship programs, for registering apprenticeship programs, for processing complaints, and for deregistering non-complying apprenticeship programs. This part also provides policies and procedures for continuation or withdrawal of recognition of State agencies which register apprenticeship programs for Federal purposes.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Title 29 CFR Part 30, Equal Employment Opportunity in Apprenticeship Training.

OMB Number: 1205-0224.

Affected Public: Applicants, Apprentices, Sponsors, State Apprenticeship Agencies or Councils, Tribal Government.

Form: ETA 9039.

Total Respondents: 26,700.

Estimated Total Burden Hours: 5,562.

Summary of Burden for 29 CFR Part 30
Sec. | Total respondents | Frequency | Total responses | Average time per response | Burden (In hrs)
30.3 | 1,290 | 1-time basis | 1,290 | ½ hr/spon | 645
30.4 | 180 | 1-time basis | 180 | 1 hr/spon | 180
30.5 | 5,900 | 1-time basis | 5,900 | ½ hr/spon | 2,950
30.6 | 50 | 1-time basis | 50 | 5 hrs/spon | 250
30.8 | 26,700 | 1-time/program | 26,700 | 1 min/spon | 445
30.8 | 28 State Agencies | 1-time basis | 12,800 | 5 min/spon | 1,067
30.11 | 26,700 | 1 time | 26,700 | Handout
ETA 9039 | 50 appl/appr. | 1-time basis | 50 | ½ hr | 25
30.15 | 30 State Agencies | 1 time | (¹)
30.19 | 28 State Agencies | Varies |  |  |
Totals | 26,700 |  | 46,920 |  | 5,562
¹ Completed.

Total Burden Cost (operating/maintaining): 0.

Comments submitted in response to this comment request will be summarized and/or included in the request for Office of Management and Budget approval of the information collection request; they will also become a matter of public record.

Signed the 28th day of August 2009, in Washington, DC.
Jane Oates,
Assistant Secretary.

[FR Doc. E9-21342 Filed 9-3-09; 8:45 am]

BILLING CODE 4510-FN-P